DEPARTMENT OF TRANSPORTATION

Federal Highway Administration

Federal Transit Administration

Environmental Impact Statement: Pitkin, Eagle and Garfield Counties, CO

AGENCIES: Federal Highway Administration (FHWA) and Federal Transit Administration (FTA) and, DOT.

ACTION: Revised notice of intent.

SUMMARY: The FHWA and FTA are jointly issuing this Revised Notice of Intent to advise the public that an Environmental Impact Statement (EIS) will not be prepared for a proposed transportation improvement project along State Highway 82 in the counties of Pitkin, Eagle and Garfield, Colorado.

FOR FURTHER INFORMATION CONTACT: Eva LaDow or Edrie Vinson, FHWA Colorado Division, 555 Zang Street, Room 250, Lakewood, Colorado 80228. Telephone (303) 969-6730 Extensions 341 and 378, respectively. Dave Beckhouse, FTA Region VIII, 216 16th Street, Suite 650, Denver, Colorado 80202. Telephone (303) 844-4266. Tom Mauser, CDOT Modal Planning, 4201 E. Arkansas Ave., DTD B-606, Denver, Colorado 80222. Telephone (303) 757-9768.

SUPPLEMENTARY INFORMATION: On December 31, 1997 the Federal Transit Administration (FTA) and Federal Highway Administration (FHWA) published a Notice of Intent to prepare an Environmental Impact Statement (EIS) for proposed transportation improvements in Pitkin, Eagle, and Garfield Counties. As a result of the study effort to date, no major federal action is being proposed, therefore the FTA and FHWA are terminating their involvement in the preparation of an EIS.

Comments or questions concerning this proposed action should be directed to the Colorado Department of Transportation at the address provided above.

(Catalog of Federal Domestic Assistance Program Number 20.205, Highway Planning and Construction. The regulations implementing Executive Order 12372 regarding intergovernmental consultation on Federal programs and activities apply to this program.)
Issued on: May 23, 2003.
William C. Jones,
Division Administrator, Colorado Division, Federal Highway Administration, Lakewood, Colorado.
Charles Dolby,
Assistant Regional Administrator, Federal Transit Administration, Region VIII, Denver, Colorado.

[FR Doc. 03-14138 Filed 6-9-03; 8:45 am]

BILLING CODE 4910-22-M